FEDERAL COMMUNICATIONS COMMISSION

[FRS 17568]

Privacy Act of 1974; System of Records

AGENCY: Federal Communications Commission.

ACTION: Notice of a modified system of records.

SUMMARY: The Federal Communications Commission (FCC, Commission, or Agency) has modified an existing system of records, FCC/WTB-7, Licensing and Related Support Services (formerly FCC/WTB-7, Remedy Action Request System (RARS)), subject to the Privacy Act of 1974, as amended. This action is necessary to meet the requirements of the Privacy Act to publish in the Federal Register notice of the existence and character of records maintained by the Agency. The FCC uses this information to record and process requests for assistance from individuals or groups in connection with FCC systems, research tools, electronic databases, licenses, authorizations, and registrations.

DATES: This action will become effective on March 16, 2021. Written comments on the system's routine uses are due by April 15, 2021. The routine uses in this action will become effective on April 15, 2021, unless written comments are received that require a contrary determination.

ADDRESSES: Send comments to Privacy Team, Office of General Counsel, Federal Communications Commission (FCC), 45 L Street NE, Washington, DC 20554 or Privacy@fcc.gov.

FOR FURTHER INFORMATION CONTACT: Margaret Drake, Privacy Team, Office of General Counsel, Federal Communications Commission, 45 L Street NE, Washington, DC 20554, 202-418-1707, or Privacy@fcc.gov (and to obtain a copy of the Narrative Statement and the Supplementary Document, which includes details of the modifications to this system of records).

SUPPLEMENTARY INFORMATION: The Wireless Telecommunications Bureau (WTB) uses the information in FCC/WTB-7 to record and process requests for assistance from individuals or groups in connection with FCC systems, research tools, electronic databases, licenses, authorizations, and registrations.

This notice serves to modify FCC/WTB-7 to reflect various necessary changes and updates, which include clarification of the purpose of the system, format changes required by OMB Circular A-108 since its previous publication, the revision of five Routine Uses, and the addition of two new Routine Uses. The substantive changes and modification to the previously published version of FCC/WTB-7 (formerly FCC/WTB-7, Remedy Action Request System (RARS)) system of records include:

1. Changing the name of the system of records to FCC/WTB-7, Licensing and Related Support Services.

2. Updating the Security Classification to follow OMB and FCC guidance.

3. Clarifying the Purpose for the system.

4. Updating and/or revising language in six Routine Uses: (1) Third Parties, (2) Adjudication and Litigation, (3) Law Enforcement and Investigation, (4) Congressional Inquiries, (5) Government-wide Program Management and Oversight, and (6) Breach Notification, the changes to this routine required by OMB Memorandum M-17-12.

6. Adding two new Routine Uses: (7) Assistance to Federal Agencies and Entities, to allow the FCC to provide assistance to other Federal agencies in their data breach situations, as required by OMB Memorandum M-17-12; and (8) For Non-Federal Personnel, to allow contractors performing or working on a contract for the Federal Government access to information in this system.

7. Adding two new sections: Reporting to a Consumer Reporting Agency, to address valid and overdue debts owed by individuals to the FCC under the Debt Collection Act, as recommended by OMB; and a History section referencing the previous publication of this SORN in the Federal Register, as required by OMB Circular A-108.

The system of records is also updated to reflect various administrative changes related to the policy and practices for storage and retrieval of the information; administrative, technical, and physical safeguards; and updated notification, records access, and procedures to contest records.

SYSTEM NAME AND NUMBER:

FCC/WTB-7, LICENSING AND RELATED SUPPORT SERVICES.

SECURITY CLASSIFICATION:

Unclassified.

SYSTEM LOCATION:

Wireless Telecommunications Bureau (WTB), Federal Communications Commission (FCC), Washington, DC 20554.

SYSTEMS MANAGER(S) AND ADDRESS:

Wireless Telecommunications Bureau (WTB), Federal Communications Commission (FCC), Washington, DC 20554.

AUTHORITY FOR MAINTENANCE OF THE SYSTEM:

47 U.S.C. 151, 154, 208, 258, 301, 303, 309(e), and 312.

PURPOSE(S) OF THE SYSTEM:

The FCC staff uses the records in this system to process requests for assistance from individuals or groups in connection with FCC systems, research tools, electronic databases, licenses, authorizations, and registrations.

CATEGORIES OF INDIVIDUALS COVERED BY THE SYSTEM:

The categories of individuals in the system include individuals who request assistance in connection with FCC systems, research tools, electronic databases, licenses, authorizations, and registrations.

CATEGORIES OF RECORDS IN THE SYSTEM:

The categories of records in the system include:

1. Requests for assistance by the requester's first name, last name, telephone number and extension, international telephone number and extension, email address(es), computer operating system, web browser, FCC Registration Number (FRN), and personal security question and answer.

2. Records verifying identity information by the individual's first name, last name, contact telephone number, FRN, and personal security question and answer.

RECORD SOURCE CATEGORIES:

Information in this system is provided by users who request assistance in connection with FCC systems, research tools, electronic databases, licenses, authorizations, and registrations.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside the FCC as a routine use pursuant to 5 U.S.C. 552a(b)(3) as follows.

1. Third Parties—To third parties, including Federal, state, local, or tribal agencies, or entities that may be subject to the Communications Act of 1934, as amended, to resolve requests for assistance.

2. Adjudication and Litigation—To disclose to the Department of Justice (DOJ), or to other administrative or adjudicative bodies before which the FCC is authorized to appear, when: (a) The FCC or any component thereof; or (b) any employee of the FCC in his or her official capacity; or (c) any employee of the FCC in his or her individual capacity where the DOJ or the FCC have agreed to represent the employee; or (d) the United States is a party to litigation or has an interest in such litigation, and the use of such records by the DOJ or the FCC is deemed by the FCC to be relevant and necessary to the litigation.

3. Law Enforcement and Investigation—To disclose pertinent information to the appropriate Federal, State, local, or tribal agency responsible for investigating, prosecuting, enforcing, or implementing a statute, rule, regulation, or order, when the FCC becomes aware of an indication of a violation or potential violation of civil or criminal law or regulation.

4. Congressional Inquiries—To provide information to a Congressional office from the record of an individual in response to an inquiry from that Congressional office made at the written request of that individual.

5. Government-wide Program Management and Oversight—To provide information to the National Archives and Records Administration (NARA) for the use in its records management inspections; to the Department of Justice (DOJ) to obtain that department's advice regarding disclosure obligations under the Freedom of Information Act; or to the Office of Management and Budget (OMB) to obtain that office's advice regarding obligations under the Privacy Act.

6. Breach Notification—To appropriate agencies, entities, and persons when: (a) The Commission suspects or has confirmed that there has been a breach of PII maintained in the system of records; (b) the Commission has determined that as a result of the suspected or confirmed breach there is a risk of harm to individuals, the Commission (including its information system, programs, and operations), the Federal Government, or national security; and, (c) the disclosure made to such agencies, entities, and persons is reasonably necessary to assist in connection with the Commission's efforts to respond to the suspected or confirmed breach or to prevent, minimize, or remedy such harm.

7. Assistance to Federal Agencies and Entities—To another Federal agency or Federal entity, when the Commission determines that information from this system is reasonably necessary to assist the recipient agency or entity in: (a) Responding to a suspected or confirmed breach or (b) preventing, minimizing, or remedying the risk of harm to individuals, the recipient agency or entity (including its information systems, program, and operations), the Federal Government, or national security, resulting from a suspected or confirmed breach.

8. Non-Federal Personnel—To disclose information to third parties, including contractors, performing or working on a contract in connection with resolving requests for assistance and/or IT services for the Federal Government, who may require access to this system of records.

REPORTING TO A CONSUMER REPORTING AGENCY:

In addition to the routine uses cited above, the Commission may share information from this system of records with a consumer reporting agency regarding an individual who has not paid a valid and overdue debt owed to the Commission, following the procedures set out in the Debt Collection Act, 31 U.S.C. 3711(e).

POLICIES AND PRACTICES FOR STORAGE OF RECORDS:

Information in the information system consists of electronic data, files, and records, which are housed in the FCC's computer network databases. Any paper documents that WTB receives are scanned into the electronic database upon receipt, and then the paper documents are destroyed.

POLICIES AND PRACTICES FOR RETRIEVAL OF RECORDS:

The electronic data, files, and records may be retrieved by searching electronically using a variety of parameters including the requester's name, entity name, telephone number, licensee, applicant or unlicensed individual, call sign, file number, problem type, FRN, email address, and/or subject matter.

POLICIES AND PRACTICES FOR RETENTION AND DISPOSAL OF RECORDS:

The information in the system is maintained according to General Records Schedules 5.8 and 6.5. The electronic records, files, and data are destroyed physically (electronic storage media) or by electronic erasure. Paper documents are destroyed by shredding after they are scanned into the information system's electronic databases.

ADMINISTRATIVE, TECHNICAL, AND PHYSICAL SAFEGUARDS:

The records in the FCC's computer network are protected by the FCC privacy safeguards, a comprehensive and dynamic set of IT safety and security protocols and features that are designed to meet all Federal IT privacy standards, including those required by the Federal Information Security Modernization Act of 2014 (FISMA), the Office of Management and Budget (OMB), and the National Institute of Standards and Technology (NIST).

RECORDS ACCESS PROCEDURES:

Individuals wishing to request access to and/or amendment of records about themselves should follow the Notification Procedure below.

CONTESTING RECORD PROCEDURES:

Individuals wishing to request an amendment of records about themselves should follow the Notification Procedure below.

NOTIFICATION PROCEDURE:

Individuals wishing to determine whether this system of records contains information about themselves may do so by writing to the Privacy Team, Office of General Counsel, Federal Communications Commission, Washington, DC 20554, Privacy@fcc.gov.

Individuals requesting access must also comply with the FCC's Privacy Act regulations regarding verification of identity to gain access to the records (47 CFR part 0, subpart E).

EXEMPTIONS PROMULGATED FOR THE SYSTEM:

None.

HISTORY:

The FCC last gave full notice of this system of records, FCC/WTB-7, Licensing and Related Support Services (formerly: FCC/WTB-7, Remedy Action Request System (RARS)), by publication in the Federal Register on May 28, 2010 (75 FR 30025).

Federal Communications Commission.
Marlene H. Dortch,
Secretary.

[FR Doc. 2021-05425 Filed 3-15-21; 8:45 am]

BILLING CODE 6712-01-P